DEPARTMENT OF TRANSPORTATION

Federal Highway Administration

Intelligent Transportation Society of America; Public Meeting

AGENCY: Federal Highway Administration (FHWA), U.S. DOT.

ACTION: Notice of public meeting.

SUMMARY: The Intelligent Transportation Society of America (ITS America) will hold a meeting of its Board of Directors on Monday, December 9, 2002. The meeting runs from 10 a.m. to 3 p.m. The session includes the following items: (1) Call to Order; (2) Welcome, Introductions, ITS America antitrust policy, Conflict of Interest Statements; (3) Consent Agenda: (a) Approval of Minutes of the October 17, 2002, Board Meeting; (b) ITS Federal Report; (c) Finance Committee Report; (d) TEA-21 Reauthorization Task Force Report; (e) Council Reports; (f) Coordinating Council; (g) International Affairs Council; (h) State Chapters Council; (i) Executive Forum for Business & Trade Charter; (4) Chairman's Report—Executive Committee Report; (5) President's Report—ITS World Congress, Staff News, Other; (6) Finance Committee Report—Investment Performance Report and 2003 Budget; (7) ITS World Congress/Annual Meeting Task Force Report; (8) Policy Manual—Presentation of Final Revisions and Approval; (9) Strategic Planning Committee Report & Discussion—Report Out from Group Discussion and Approve 2003-2007 Strategic Plan; (10) New Business; (11) Adjourn.

ITS America provides a forum for national discussion and recommendations on ITS activities including programs, research needs, strategic planning, standards, international liaison, and priorities.

The charter for the utilization of ITS America establishes this organization as an advisory committee under the Federal Advisory Committee Act (FACA) 5 U.S.C. app. 2, when it provides advice or recommendations to DOT officials on ITS policies and programs. (56 FR 9400, March 6, 1991).

DATES: The Board of Directors of ITS America will meet on Monday, December 9, 2002, from 10 a.m.-3 p.m.

ADDRESSES: The Rosen Centre Hotel, 9840 International Drive, Orlando, Florida, 32819; phone: (800) 800-9840; Fax: (407) 996-2659.

FOR FURTHER INFORMATION CONTACT: Materials associated with this meeting may be examined at the offices of ITS America, 400 Virginia Avenue, SW., Suite 800, Washington, DC 20024. Persons needing further information or who request to speak at this meeting should contact Debbie M. Busch at ITS America by telephone at (202) 484-2904 or by FAX at (202) 484-3483. The DOT contact is Kristy Frizzell, FHWA, HOIT, Washington, DC 20590, (202) 366-9536. Office hours are from 8:30 a.m. to 5 p.m., e.s.t., Monday through Friday, except for legal holidays.

(23 U.S.C. 315; 49 CFR 1.48)
Issued on: November 15, 2002.
Jeffrey F. Paniati,
Acting Associate Administrator, Office of Operations, Federal Highway Administration, and Acting Director, ITS Joint Program Office, US Department of Transportation.

[FR Doc. 02-29760 Filed 11-21-02; 8:45 am]

BILLING CODE 4910-22-P